DEPARTMENT OF THE INTERIOR

Minerals Management Service

Agency Information Collection Activities: Submitted for Office of Management and Budget (OMB) Review; Comment Request

AGENCY: Minerals Management Service (MMS), Interior.

ACTION: Notice of extension and revision of a currently approved information collection (OMB Control Number 1010-0049).

SUMMARY: Under the Paperwork Reduction Act of 1995 (PRA), we are submitting to OMB for review and approval an information collection request (ICR), titled “30 CFR 250, Subpart B-Exploration and Development and Production Plans.” We are also soliciting comments from the public on this ICR.

DATE: Submit written comments by August 24, 2000.

ADDRESSES: You may submit comments directly to the Office of Information and Regulatory Affairs, OMB, Attention: Desk Officer for the Department of the Interior (1010-0049), 725 17th Street, N.W., Washington, D.C. 20503. Mail or hand carry a copy of your comments to the Department of the Interior; Minerals Management Service; Attention: Rules Processing Team; Mail Stop 4024; 381 Elden Street; Herndon, Virginia 20170-4817.

Our practice is to make comments, including names and home addresses of respondents, available for public review during regular business hours. Individual respondents may request that we withhold their home address from the record, which we will honor to the extent allowable by law. There may be circumstances in which we would withhold from the record a respondent's identity, as allowable by the law. If you wish us to withhold your name and/or address, you must state this prominently at the beginning of your comment. However, we will not consider anonymous comments. We will make all submissions from organizations or businesses, and from individuals identifying themselves as representatives or officials of organizations or businesses, available for public inspection in their entirety.

FOR FURTHER INFORMATION CONTACT: Alexis London, Rules Processing Team, telephone (703) 787-1600. You may also contact Alexis London to obtain a copy of the collection of information at no cost.

SUPPLEMENTARY INFORMATION:

Title: 30 CFR 250, Subpart B, Exploration and Development and Production Plans

OMB Control Number: 1010-0049.

Bureau Form Numbers: MMS-137, MMS-138, MMS-139, and MMS-141.

Abstract: The Outer Continental Shelf (OCS) Lands Act, 43 U.S.C. 1331 et seq., gives the Secretary of the Interior (Secretary) the responsibility to preserve, protect, and develop oil and gas resources in the OCS, consistent with the need to make such resources available to meet the Nation's energy needs as rapidly as possible; balance orderly energy resource development with protection of the human, marine, and coastal environments; ensure the public a fair and equitable return on the resources of the OCS; and preserve and maintain free enterprise competition.

Sections 11 and 25 of the amended OCS Lands Act require the holders of OCS oil and gas and sulphur leases to submit exploration plans (EPs) and development and production plans (DPPs) for approval prior to commencing these activities. The implementing regulations and associated information collection requirements are contained in 30 CFR 250, subpart B, Exploration and Development and Production Plans (subpart B). In addition, MMS has issued Notices to Lessees and Operators (NTLs) that provide supplementary guidance and procedures as applicable to each Region or nationally. These NTLs address the various surveys, reports, plans (including deep water operations plans and conservation information), etc., that are necessary for MMS to approve the exploration or development and production activities.

The MMS engineers, geologists, geophysicists, and environmental scientists use the information collected under subpart B, and related NTLs, to analyze and evaluate the planned operations to ensure that they will not adversely affect the marine, coastal, or human environment and that they conserve the resources of the OCS. It would be impossible for the Regional Supervisor to make an informed decision on whether to approve the proposed plans, or whether modifications are necessary, without the analysis and evaluation of the required information. The affected States also review the information collected for consistency with approved Coastal Zone Management plans.

We are resubmitting this collection of information to OMB to obtain official approval of several aspects of the plan submissions that have developed over time. In addition to the currently approved requirements, we are seeking OMB approval of the number of copies respondents submit; a new “OCS Plan Information Form” (form MMS-137) for use in the GOM Region; and two air emissions spreadsheets (forms MMS-138 and MMS-139) currently used in the GOM Region. Except for form MMS-137, these are not new requirements. We consider the burdens for these as part of the burden currently approved for developing and submitting EPs or DPPs (development operations coordination documents (DOCDs) in the western GOM).

In addition, we are seeking OMB approval for a new form MMS-141, “ROV Survey Report.” Sections 250.203(o) and 250.204(s) of our regulations provide the authority to require monitoring surveys and submit the results. MMS has not required such monitoring surveys be conducted for some time. Because many of the current exploration areas in the GOM Region are now characterized as “relatively untested or remote,” it will be necessary to obtain the information from these surveys. We have developed a suggested form on which respondents may record the information from the survey.

We will protect information respondents submit that is considered proprietary under the Freedom of Information Act (5 U.S.C. 552) and its implementing regulations (43 CFR 2) and 30 CFR 250.196. No items of a sensitive nature are collected. Responses are mandatory.

Frequency: The frequency of reporting is on occasion.

Estimated Number and Description of Respondents: Approximately 130 Federal OCS oil, gas, and sulphur lessees.

Estimated Annual Reporting and Recordkeeping “Hour” Burden: 249,370 hours—refer to the following chart for a breakdown of this estimate.

Citation 30 CFR 250 Subpart B and related NTLs | Reporting and recordkeeping requirement | Annual number | Average burden (hours) | Annual burden hours
201 | Notify MMS and others of preliminary activities and submit follow-up information | 22 notices/information | 10 | 220
202 | Submit conservation information documents | 30 documents | 300 | 900
203 | Submit initial exploration plan, including surveys, reports, studies, GOM Region forms MMS-137, MMS-138, MMS-39, etc., including notification requirements | 260 plans | 580 hours | 150,800
203(i), (j), (k), (l), (n), (q) | Submit revised/modified exploration plan, including surveys, reports, studies, departures, etc | 180 revisions | 80 | 14,400
203(o); 204(s) | Conduct surveys or monitoring programs and submit results; GOM Region form MMS-141 | 3 each for 30 wells = 90 | 2 | 180
203(p); 204(t) | Submit Application for Permit to Drill | Burden covered under 1010-0044. |  | 0
204 | Submit initial development and production plan (or DOCD) used in western GOM, including surveys, reports, studies, GOM Region forms MMS-137, MMS-138, MMS-139, etc., including notification requirements | 95 plans | 580 | 55,100
204 | Submit deepwater operations plans for projects in GOM water depths greater than 1,000 feet and projects utilizing subsea production technology | 17 plans | 580 | 9,860
204(k) | Submit preliminary plans for tracts in vicinity of a DPP that requires NEPA procedures | 10 plans | 2 | 20
204 (l), (m), (n), (o), (q), (u) | Submit revised/modified development and production plan (or DOCD), including surveys, reports, studies, departures, etc | 215 revisions | 82 | 17,630
Reporting—Subtotal |  | 886 Responses |  | 249,110
Supplemental NTLs | Retain original copies of surveys, studies, reports, etc. (Note: Respondents would retain these as part of usual and customary business activities. The burden is to make them available to MMS if needed.) | 130 | 2 | 260
Recordkeeping—Subtotal |  | 130 Recordkeepers |  | 260
Total burden |  | 1,016 Responses/Recordkeepers |  | 249,370

Estimated Annual Reporting and Recordkeeping “Non-Hour Cost” Burden: We have identified no non-hour cost burdens for this collection.

Comments: The PRA (44 U.S.C. 3501, et seq.) provides that an agency may not conduct or sponsor, and a person is not required to respond to, a collection of information unless it displays a currently valid OMB control number. Section 3506(c)(2)(A) of the PRA requires each agency “* * * to provide notice * * * and otherwise consult with members of the public and affected agencies concerning each proposed collection of information * * *” Agencies must specifically solicit comments to: (a) evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

We published a Federal Register notice with the required 60-day comment period soliciting comments on this ICR on February 23, 2000 (65 FR 8984). We received no comments in response to that notice. If you wish to comment in response to this notice, send your comments directly to the offices listed under the ADDRESSES section of this notice. The OMB has up to 60 days to approve or disapprove the information collection but may respond after 30 days. Therefore, to ensure maximum consideration, OMB should receive public comments by August 24, 2000.

MMS Information Collection Clearance Officer: Jo Ann Lauterbach, (202) 208-7744.

Dated: June 15, 2000.
E.P. Danenberger,
Chief, Engineering and Operations Division.

[FR Doc. 00-18804 Filed 7-24-00; 8:45 am]

BILLING CODE 4310-MR-P